ENVIRONMENTAL PROTECTION AGENCY

40 CFR Part 63

[EPA-HQ-OAR-2025-0078; FRL-5774-03-OAR]

Review of National Emission Standards for Hazardous Air Pollutants From Secondary Lead Smelting Technology Review; Reopening of Comment Period

AGENCY: Environmental Protection Agency (EPA).

ACTION: Proposed rule; reopening of public comment period.

SUMMARY: On October 1, 2025, the U.S. Environmental Protection Agency (EPA) proposed a rule titled “National Emission Standards for Hazardous Air Pollutants from Secondary Lead Smelting Technology Review.” The EPA is reopening the comment period on this proposed rule, which closed on November 17, 2025. The comment period will now end on December 8, 2025, to allow additional time for stakeholders to review and comment on the proposal.

DATES: The EPA is reopening the comment period for the proposed rule that published in the Federal Register (FR) on October 1, 2025, at 90 FR 47268. The EPA must receive written comments on or before December 8, 2025.

ADDRESSES: Submit comments, identified by Docket ID No. EPA-HQ-OAR-2025-0078, by any of the following methods:

• Federal eRulemaking Portal: https://www.regulations.gov (our preferred method). Follow the online instructions for submitting comments.

• Email: a-and-r-docket@epa.gov. Include Docket ID No. EPA-HQ-OAR-2025-0078 in the subject line of the message.

• Mail: U.S. Environmental Protection Agency, EPA Docket Center, Docket ID No. EPA-HQ-OAR-2025-0078, Mail Code 28221T, 1200 Pennsylvania Avenue NW, Washington, DC 20460.

• Hand Delivery/Courier Delivery: EPA Docket Center, WJC West Building, Room 3334, 1301 Constitution Avenue NW, Washington, DC 20004. The Docket Center's hours of operation are 8:30 a.m.-4:30 p.m., Monday-Friday (except Federal holidays).

Instructions. All submissions received must include the Docket ID No. EPA-HQ-OAR-2025-0078 for this rulemaking. Comments received may be posted without change on https://www.regulations.gov, including any personal information provided. For detailed instructions on sending comments and additional information on the rulemaking process, see the SUPPLEMENTARY INFORMATION section of this document.

FOR FURTHER INFORMATION CONTACT: For information about this comment period extension, contact U.S. EPA, Attn: Amber Wright, Mail Drop: D243-02, 109 T.W. Alexander Drive, P.O. Box 12055, Research Triangle Park, North Carolina 27711; telephone number: (919) 541-4680; and email address: Wright.Amber@epa.gov.

SUPPLEMENTARY INFORMATION:

Rationale. On October 1, 2025, the EPA proposed a rule titled “National Emission Standards for Hazardous Air Pollutants from Secondary Lead Smelting Technology Review.” ¹ The comment period on this proposed rule originally closed on November 17, 2025. The EPA received a request for additional time to review and comment on this proposed rule, and the EPA has decided to reopen the comment period until December 8, 2025. The public comment period will now end on December 8, 2025.

¹ 90 FR 47268, October 1, 2025.

Docket. The EPA established a docket for this rulemaking under Docket ID No. EPA-HQ-OAR-2025-0078. All documents in the docket are listed at https://www.regulations.gov. Although listed, some information is not publicly available, e.g., Confidential Business Information (CBI) or other information whose disclosure is restricted by statute. The EPA does not place certain other material, such as copyrighted material, on the internet; this material is publicly available only as PDF versions accessible only on EPA computers in the docket office reading room. The public cannot download certain data bases and physical items from the docket but may request these items by contacting the docket office at 202-566-1744. The docket office has 10 business days to respond to such requests. With the exception of such material, publicly available docket materials are available electronically at https://www.regulations.gov.

Written Comments. Direct your comments to Docket ID No. EPA-HQ-OAR-2025-0078. The EPA's policy is that all comments received will be included in the public docket without change and may be made available online at https://www.regulations.gov, including any personal information provided, unless the comment includes information claimed to be CBI or other information for which a statute restricts disclosure. Do not submit electronically to https://www.regulations.gov any information that you consider to be CBI or other information for which a statute restricts disclosure. You should submit this type of information as discussed below.

The EPA may publish any comment received to its public docket. A written comment must accompany multimedia submissions (audio, video, etc.). The EPA considers the written comment to be the official comment, and it should include discussion of all points the commenter wishes to make. The EPA will generally not consider comments or comment contents located outside of the primary submission (i.e., on the web, cloud, or other file sharing system). For additional submission methods, the full EPA public comment policy, information about CBI or multimedia submissions, and general guidance on making effective comments, please visit https://www.epa.gov/dockets/commenting-epa-dockets.

The https://www.regulations.gov website allows you to submit your comment anonymously, which means the EPA will not know your identity or contact information unless you provide it in the body of your comment. If you send an email comment directly to the EPA without going through https://www.regulations.gov, your email address will be automatically captured and included as part of the comment that is placed in the public docket and made available on the internet. If you submit an electronic comment, the EPA recommends that you include your name and other contact information in the body of your comment and with any digital storage media you submit. If the EPA cannot read your comment due to technical difficulties and cannot contact you for clarification, the EPA may not be able to consider your comment. Electronic files should not include special characters or any form of encryption and should be free of any defects or viruses. For additional information about the EPA's public docket, visit the EPA Docket Center homepage at https://www.epa.gov/dockets.

Submitting CBI. Do not submit information containing CBI to the EPA through https://www.regulations.gov. Clearly mark the part or all of the information that you claim to be CBI. For CBI information on any digital storage media that you mail to the EPA, note the docket ID, mark the outside of the digital storage media as CBI, and identify electronically within the digital storage media the specific information that is claimed as CBI. In addition to one complete version of the comments that includes information claimed as CBI, you must submit a copy of the comments that does not contain the information claimed as CBI directly to the public docket through the procedures outlined in Written Comments section of this document. If you submit any digital storage media that does not contain CBI, mark the outside of the digital storage media clearly that it does not contain CBI and note the docket ID. The public docket and the EPA's electronic public docket will include information not marked as CBI without prior notice. The EPA will not disclose information marked as CBI except in accordance with procedures set forth in 40 Code of Federal Regulations (CFR) part 2.

Our preferred method to receive CBI is electronic transmittal, using email attachments, File Transfer Protocol (FTP), or other online file sharing services (e.g., Dropbox, OneDrive, Google Drive). You must send electronic submissions directly to the Office of Clean Air Programs (OCAP) CBI Office at the email address oaqps_cbi@epa.gov, and, as described above, you should include clear CBI markings and note the docket ID. If you need assistance with submitting large electronic files that exceed the file size limit for email attachments, and if you do not have your own file sharing service, please email oaqps_cbi@epa.gov to request a file transfer link. If sending CBI information through the U.S. Postal Service, please send it to the following address: U.S. EPA, Attn: OCAP Document Control Officer, Mail Drop:

C404-02, 109 T.W. Alexander Drive, P.O. Box 12055, Research Triangle Park, North Carolina 27711, Attention Docket ID No. EPA-HQ-OAR-2025-0078. You should double-wrap and clearly mark the mailed CBI material. Any CBI markings should not show through the outer envelope.

Panagiotis Tsirigotis,
Director, Office of Clean Air Programs.

[FR Doc. 2025-20753 Filed 11-21-25; 8:45 am]

BILLING CODE 6560-50-P